DEPARTMENT OF TRANSPORTATION

Federal Aviation Administration

[Summary Notice No. PE-2004-06]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, or Sandy Buchanan-Sumter (202) 267-7271, Office of Rulemaking (ARM-1), Federal Aviation Administration, 800 Independence Avenue, SW., Washington, DC 20591.

This notice is published pursuant to 14 CFR 11.85 and 11.91.

Issued in Washington, DC, on January 15, 2004.
Donald P. Byrne,
Assistant Chief Counsel for Regulations.

Dispositions of Petitions

Docket No.: FAA-2003-16590.

Petitioner: Balloon Federation of America.

Section of 14 CFR Affected: 14 CFR 91.119(b) and (c).

Description of Relief Sought/Disposition: To allow the Balloon Federation of America to conduct a 1-year, non-renewable safety study during which certain qualified and authorized Balloon Federation of America-member pilots will be allowed to operate balloons: (1) Below an altitude of 1,000 feet above the highest obstacle within a horizontal radius of 2,000 feet of the balloon, over congested areas; and (2) below an altitude of 500 feet above the surface in other than congested areas, subject to certain conditions and limitations.

Grant, 12/23/2003, Exemption No. 8198.

Docket No.: FAA-2001-8722.

Petitioner: Sky West Airlines, Inc.

Section of 14 CFR Affected: 14 CFR 121.434(c)(1)(ii).

Description of Relief Sought/Disposition: To permit Sky West Airlines, Inc., to substitute a qualified and authorized check airman in place of an FAA training inspector to observe a qualifying pilot in command who is completing initial or upgrade training specified in § 121.424 during at least one flight leg that includes a takeoff and a landing subject to certain conditions and limitations.

Grant, 12/23/2003, Exemption No. 7689A.

Docket No.: FAA-2003-16620.

Petitioner: RdM Pilot/Guide, Ltd.

Section of 14 CFR Affected: 14 CFR 135.203(a)(1).

Description of Relief Sought/Disposition: To allow RdM Pilot/Guide, Ltd., to conduct operations under visual flight rules outside of controlled airspace, over water, at an altitude below 500 feet above the surface.

Grant, 12/23/2003, Exemption No. 8196.

Docket No.: FAA-2003-16740.

Petitioner: DK&L Company, LLC.

Section of 14 CFR Affected: 14 CFR 135.143(c)(2).

Description of Relief Sought/Disposition: To permit DK&L Company, LLC to operate certain aircraft under part 135 without a TSO-C112 (Mode S) transponder installed in those aircraft.

Grant, 12/24/2003, Exemption No. 8197.

Docket No.: FAA-2001-10932.

Petitioner: John L. Heverling.

Section of 14 CFR Affected: 14 CFR 91.109(a) and (b)(3).

Description of Relief Sought/Disposition: To allow John L. Heverling to conduct certain flight instruction and simulated instrument flights to meet recent instrument experience requirements in certain Beechcraft airplanes equipped with a functioning throwover control wheel in place of functioning dual controls.

Grant, 12/10/2003, Exemption No. 6719C.

Docket No.: FAA-2003-16673.

Petitioner: Davis Aviation, Inc.

Section of 14 CFR Affected: 14 CFR 135.143(c)(2).

Description of Relief Sought/Disposition: To permit Davis Aviation, Inc., to operate certain aircraft under part 135 without a TSO-C112 (Mode S) transponder installed in those aircraft.

Grant, 12/16/2003, Exemption No. 8191.

Docket No.: FAA-2003-15272.

Petitioner: U.S. Airways, Inc.

Section of 14 CFR Affected: 14 CFR 121.309(b)(4).

Description of Relief Sought/Disposition: To allow U.S. Airways, Inc., to operate aircraft equipped with evacuation slides marked with the date maintenance is due, rather than the date of last inspection.

Grant, 12/17/2003, Exemption No. 8192.

Docket No.: FAA-2003-16694.

Petitioner: Sound Flight.

Section of 14 CFR Affected: 14 CFR 135.143(c)(2).

Description of Relief Sought/Disposition: To permit Sound Flight to operate certain aircraft under part 135 without a TSO-C112 (Mode S) transponder installed in those aircraft.

Grant, 12/18/2003, Exemption No. 8193.

Docket No.: FAA-2002-11571.

Petitioner: Alpha Aviation, Inc.

Section of 14 CFR Affected: 14 CFR 135.143(c)(2).

Description of Relief Sought/Disposition: To permit Alpha Aviation, Inc., to operate certain aircraft under part 135 without a TSO-C112 (Mode S) transponder installed in those aircraft.

Grant, 12/22/2003, Exemption No. 7164B.

Docket No.: FAA-2002-12174.

Petitioner: Hageland Aviation Services, Inc.

Section of 14 CFR Affected: 14 CFR 135.143(c)(2).

Description of Relief Sought/Disposition: To permit Hageland Aviation Services, Inc., to operate certain aircraft under part 135 without a TSO-C112 (Mode S) transponder installed in those aircraft.

Grant, 12/22/2003, Exemption No. 7183B.

Docket No.: FAA-2002-11570.

Petitioner: SKY Helicopters, Inc.

Section of 14 CFR Affected: 14 CFR 135.143(c)(2).

Description of Relief Sought/Disposition: To permit SKY Helicopters, Inc., to operate certain aircraft under part 135 without a TSO-C112 (Mode S) transponder installed in those aircraft.

Grant, 12/22/2003, Exemption No.6430D.

Docket No.: FAA-2003-16661.

Petitioner: Beck Properties, Inc.

Section of 14 CFR Affected: 14 CFR 135.143(c)(2).

Description of Relief Sought/Disposition: To permit Beck Properties, Inc., to operate certain aircraft under part 135 without a TSO-112C (Mode S) transponder installed in those aircraft.

Grant, 12/22/2003, Exemption No. 8195.

Docket No.: FAA-2003-15646.

Petitioner: Down East Emergency Medical Institute.

Section of 14 CFR Affected: 14 CFR 133.45(e)(1).

Description of Relief Sought/Disposition: To permit the Down East Emergency Medical Institute to conduct external-load operations in a restricted-category, single engine, military surplus Bell UH-1H/V (205) Helicopter, with live personnel in the areas surrounding Bangor, Maine and within the operational limits of the aircraft.

Denial, 12/11/2003, Exemption No. 8188.

Docket No.: FAA-2003-16443.

Petitioner: Richard Stuart.

Section of 14 CFR Affected: 14 CFR 91.319(a)(2).

Description of Relief Sought/Disposition: To allow Richard Stuart to provide local, aerial scenic tours and perform aerial photography using a fixed-wing, visual flight rules-only, experimental-class aircraft.

Denial, 12/10/2003, Exemption No. 8189.

Docket No.: FAA-2003-16665.

Petitioner: Bald Mountain Air Service, Inc.

Section of 14 CFR Affected: 14 CFR 135.143(c)(2).

Description of Relief Sought/Disposition: To permit Bald Mountain Air Service, Inc., to operate certain aircraft under part 135 without a TSO-C112 (Mode S) transponder installed in those aircraft.

Grant, 12/10/2003, Exemption No. 8187.

Docket No.: FAA-2001-10789.

Petitioner: Tavaero Jet Charter, Inc.

Section of 14 CFR Affected: 14 CFR § 135.143(c)(2).

Description of Relief Sought/Disposition: To permit Tavaero Jet Charter, Inc., to operate certain aircraft under part 135 without a TSO-C112 (Mode S) transponder installed in those aircraft.

Grant, 12/15/2003, Exemption No. 7146B.

[FR Doc. 04-1330 Filed 1-21-04; 8:45 am]

BILLING CODE 4910-13-P